DEPARTMENT OF COMMERCE

International Trade Administration

(A-405-803)

Notice of Final Determination of Sales at Less Than Fair Value: Purified Carboxymethylcellulose From Finland

AGENCY: AGENCY: Import Administration, International Trade Administration, Department of Commerce.

SUMMARY: The Department of Commerce (the Department) determines that purified carboxymethylcellulose (CMC) from Finland is being, or is likely to be, sold in the United States at less than fair value, as provided in section 735 of the Tariff Act of 1930, as amended (the Tariff Act). The final weighted-average dumping margins are listed below in the section entitled “Continuation of Suspension of Liquidation.”

EFFECTIVE DATE: May 17, 2005.

FOR FURTHER INFORMATION CONTACT: Brian J. Sheba, or Robert M. James, AD/CVD Operations, Office 7, Import Administration, International Trade Administration, U.S. Department of Commerce, 14th Street and Constitution Avenue, NW, Washington, DC 20230, telephone (202) 482-0145 or (202) 482-0469 respectively.

SUPPLEMENTARY INFORMATION:

Background

Since the publication of the preliminary determination of this investigation (see Notice of Preliminary Determination of Sales at Less Than Fair Value and Postponement of Final Determination: Purified Carboxymethylcellulose From Finland, 69 FR 77216 (December 27, 2004) (Preliminary Determination), the following events have occurred.

On January 28, 2005, we received a case brief from Aqualon Company (the petitioner) and on February 2, 2005, we received a rebuttal brief from Noviant OY (Noviant). Noviant did not file a case brief. Petitioner withdrew its request for a public hearing on March 4, 2005.

Scope of the Investigation

For purposes of this investigation, the products covered are all purified carboxymethylcellulose (CMC), sometimes also referred to as purified sodium CMC, polyanionic cellulose, or cellulose gum, which is a white to off-white, non-toxic, odorless, biodegradable powder, comprising sodium carboxymethylcellulose that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this investigation is classified in the Harmonized Tariff Schedule of the United States (HTSUS) at subheading 3912.31.00. This tariff classification is provided for convenience and customs purposes; however, the written description of the scope of this investigation is dispositive.

Period of Investigation

The period of investigation (POI) is April 1, 2003, through March 31, 2004. See 19 CFR 351.204(b)(1).

Analysis of Comments Received

All issues raised in the case and rebuttal briefs by parties to this investigation are addressed in the “Issues and Decision Memorandum for the Final Determination in the Antidumping Duty Investigation of Purified Carboxymethylcellulose from Finland” from Barbara E. Tillman, Acting Deputy Assistant Secretary for Import Administration, to Joseph A. Spetrini, Acting Assistant Secretary for Import Administration, dated May 10, 2005 (Decision Memorandum), which is hereby adopted by this notice. Attached to this notice as an appendix is a list of the issues which parties have raised and to which we have responded in the Decision Memorandum. Parties can find a complete discussion of all issues raised in this investigation and the corresponding recommendations in this public memorandum which is on file in the Department's Central Records Unit (CRU). In addition, a complete version of the Decision Memorandum can be accessed directly on the Web at http://ia.ita.doc.gov/frn/index.html. The paper copy and electronic version of the Decision Memorandum are identical in content.

Adverse Facts Available

For the final determination, the Department continues to find that Noviant, a producer and exporter of purified CMC from Finland, and mandatory respondent in these proceedings, did not act to the best of its ability by failing to provide information requested by the Department. Thus, the Department continues to find the use of adverse facts available (AFA) is warranted under section 776(a)(2) of the Tariff Act. See Preliminary Determination at 77217 - 77219.

Continuation of Suspension of Liquidation

In accordance with section 735(c)(1)(B) of the Tariff Act, we are directing U.S. Customs and Border Protection (CBP) to continue to suspend liquidation of all imports of subject merchandise from Finland that are entered, or withdrawn from warehouse, for consumption on or after December 27, 2004, the date of publication of the Preliminary Determination in the Federal Register. CBP shall continue to require a cash deposit or the posting of a bond equal to the weighted-average amount by which the normal value (NV) exceeds the export price (EP) or constructed export price (CEP), as indicated in the chart below. These suspension-of-liquidation instructions will remain in effect until further notice. The weighted- average dumping margins are as follows:

Manufacturer/exporter | Weighted-Average Margin (percent)
Noviant OY | 6.65
All Others | 6.65

ITC Notification

In accordance with section 735(d) of the Tariff Act, we have notified the International Trade Commission (ITC) of our determination. As our final determination is affirmative, the ITC will, within 45 days, determine whether these imports are materially injuring, or threatening material injury to, the U.S. industry. If the ITC determines that material injury, or threat of material injury, does not exist, the proceeding will be terminated and all securities posted will be refunded or canceled. If the ITC determines that such injury does exist, the Department will issue an antidumping duty order pursuant to section 736(a) of the Act.

Notification Regarding APOs

This notice also serves as the only reminder to parties subject to the administrative protective order (APO) of their responsibility concerning the disposition of proprietary information disclosed under APO in accordance with 19 CFR 351.305(a)(3), which continues to govern business proprietary information in this segment of the proceeding. Timely written notification of return/destruction of APO material or conversion to judicial protective order is hereby requested. Failure to comply with the regulation and the terms of an APO is a sanctionable violation.

This determination is issued and published in accordance with sections 735(d) and 777(i)(1) of the Act.

Dated: May 10, 2005.
Joseph A. Spetrini,
Acting Assistant Secretary for Import Administration.

Appendix I: List of Comments in the Issues and Decision Memorandum

1. Selection of Adverse Facts Available Margin

[FR Doc. E5-2469 Filed 5-16-05; 8:45 am]

BILLING CODE 3510-DS-S